DEPARTMENT OF LABOR

Employment and Training Administration

Workforce Innovation and Opportunity Act; Native American Employment and Training Council

AGENCY: Employment and Training Administration, U.S. Department of Labor.

ACTION: Notice of meeting.

SUMMARY: Pursuant to the Federal Advisory Committee Act (FACA), as amended, and the Workforce Innovation and Opportunity Act (WIOA), notice is hereby given of the next meeting of the Native American Employment and Training Council (Council), as constituted under WIOA.

DATES: The meeting will begin at 10 a.m. (Eastern Daylight Time) on Wednesday, May 3, 2023 and continue until 4:30 p.m. The meeting will reconvene at 1 p.m. on Thursday, May 4, 2023 and adjourn at 4:30 p.m. The period from 3 p.m., to 4 p.m. on May 4, 2023 is reserved for participation and comment by members of the public.

ADDRESSES: The meeting will be held in person at the Foxwoods Hotel, 240 Fox Tower Drive, Mashantucket, CT 06339, located in the Fox Tower, Celebrity Ballrooms A, B and C. The meeting will also be accessible virtually on the Zoom.gov platform. To join the meeting use the following URL: https://www.zoomgov.com/j/1603344439?pwd=M1liREg0Z1kxdmdWWlA2TXB4LytIUT09, Meeting ID: 1603344439, Passcode: 648175.

SUPPLEMENTARY INFORMATION: Council members and members of the public are encouraged to logon to Zoom.gov early to allow for connection issues and troubleshooting.

The meeting will be open to the public. Members of the public not present may submit a written statement by Friday, April 28, 2023, to be included in the record of the meeting. Statements are to be submitted to Nathaniel Coley, Designated Federal Officer (DFO), U.S. Department of Labor at coley.nathaniel.d@dol.gov. Persons who need special accommodations should contact Phillip Roulain at 703-209-5889 or proulain@tribaltechllc.com two business days before the meeting. The formal agenda will focus on the following topics: (1) Updates from the Employment and Training Administration, including implementation of Workforce Innovation and Opportunity Act programs, and status of previous NAETC recommendations; (2) Training and technical assistance updates and priorities; (3) NAETC workgroup updates; (4) updates on implementation of the 477 program; (5) Presentation on WIOA participants served and outcomes since the implementation of the Grantee Performance Management System (GPMS); (6) ETA/DINAP updates; and (7) public comment.

FOR FURTHER INFORMATION CONTACT: Nathaniel Coley, DFO, Division of Indian and Native American Programs, Employment and Training Administration, U.S. Department of Labor, Room C-4311, 200 Constitution Avenue NW, Washington, DC 20210. Telephone number (202) 693-4287 (VOICE) (this is not a toll-free number) or coley.nathaniel.d@dol.gov.

Brent Parton,
Acting Assistant Secretary for Employment and Training, Labor.

[FR Doc. 2023-07019 Filed 4-4-23; 8:45 am]

BILLING CODE 4510-FR-P